TENNESSEE VALLEY AUTHORITY

Sunshine Act Meeting Notice

Meeting No. 12-02

April 26, 2012

The TVA Board of Directors will hold a public meeting on April 26, 2012, in the Grand Ballroom at the General Morgan Inn, 111 North Main Street, Greeneville, Tennessee. The public may comment on any agenda item or subject at a public listening session which begins at 8:30 a.m. (ET). Following the end of the public listening session, the meeting will be called to order to consider the agenda items listed below. On-site registration will be available until 15 minutes before the public listening session begins at 8:30 a.m. (ET). Pre-registered speakers will address the Board first. TVA management will answer questions from the news media following the Board meeting.

Status: Open.

Agenda

Chairman's Welcome.

Old Business

Approval of minutes of February 16, 2012, Board Meeting

New Business

1. Report from President and CEO

2. Financial Update

3. Report of the Finance, Rates, and Portfolio Committee

A. Proposed contract with Holtec, Inc., for Dry Cask Storage of Spent Nuclear Fuel

B. Proposed Optional Wholesale Rates

C. Contract amendments with two directly served industrial customers

D. Proposed contract with Energy Northwest for uranium and uranium enrichment services

4. Joint Report of the Finance, Rates, and Portfolio Committee and the Nuclear Oversight Committee

A. Watts Bar Nuclear Plant Unit 2 Cost and Schedule Estimate

5. Report of the Nuclear Oversight Committee

A. Nuclear Safety Policy

6. Report of the People and Performance Committee

7. Report of the Audit, Risk, and Regulation Committee

8. Report of the External Relations Committee

A. Renewal of the Regional Resource Stewardship Council Charter

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 19, 2012.
Ralph E. Rodgers,
General Counsel and Secretary.

[FR Doc. 2012-9918 Filed 4-20-12; 11:15 am]

BILLING CODE 8120-08-P